DEPARTMENT OF HEALTH AND HUMAN SERVICES

National Institutes of Health

National Institute of Dental and Craniofacial Research; Notice of Meeting

Notice is hereby given of a Conference on Research Training Initiatives, sponsored by the National Institute of Dental and Craniofacial Research (NIDCR).

The conference will be open to the public as indicated below, with attendance limited to space available. This meeting will also be made available by video cast at http://videocast.nih.gov/.

Conference Name: Research Training Initiatives.

Date: June 9, 2005.

Open: 8:30 a.m. to 5 p.m.

Agenda: The conference will focus on a variety of issues relating to research training. A significant portion of the meeting will be devoted to discussion of training of both clinician scientists and basic scientists, from building a pipeline, through undergraduate, graduate and postgraduate research training culminating in bridging to scientific independence.

Additional presentations and discussion will focus on models for successful programs at various educational and career development stages, definition of what constitutes success, the role of mentoring, academic environment, K-12 science education and related topics.

Speakers and plenary discussion panel members include representatives from the NIH, the National Academics of Science, the National Science Foundation and the Howard Hughes Medical Institute.

Place: National Institutes of Health, Natcher Building (Building 45), Conference Rm. 1-2, 4500 Center Drive, Bethesda, MD 20892.

Public Comment: Individuals who wish to provide public comment (oral or written) should contact the Acting Deputy Director, NIDCR, Dr. Henning Birkedal Hansen, by telephone at (301) 496-9469 or e-mail at Henning.Birkedal-Hansen@nih.gov no later than May 25, 2005.

Contact Person: Henning Birkedal-Hansen, Ph.D., Acting Deputy Director, National Institute of Dental and Craniofacial Research, 31 Center Drive, Room 2C39, Bethesda, MD 20892, (301) 496-9469.

Information is also available on the Institute's home page: http://www.nidcr.nih.gov/about, where an agenda and any additional information for the meeting will be posted when available.

Individuals who plan to attend and need special assistance, such as sign language interpretation or other reasonable accommodations, should notify Ms. Rita Lehr at (301) 496-9469 prior to the meeting.

Dated: May 18, 2005.
Henning Birkedal-Hansen,
Acting Deputy Director, National Institute of Dental and Craniofacial Research.

[FR Doc. 05-10317 Filed 5-23-05; 8:45 am]

BILLING CODE 4140-01-M